DEPARTMENT OF ENERGY

Federal Energy Regulatory Commission

[Docket No. CP01-439-003]

Columbia Gas Transmission Corporation; Notice of Petition To Amend

October 15, 2002.

Take notice that on October 4, 2002, Columbia Gas Transmission Corporation (Columbia), 12801 Fair Lakes Parkway, Fairfax, Virginia 22030-0146, filed in Docket No. CP01-439-003, a petition to amend the order issued May 17, 2002, in Docket No. CP01-439-000. In Docket No. CP01-439-003 Columbia requests a certificate of public convenience and necessity pursuant to section (c) of the Natural Gas Act (NGA) and part 157 of the Commission's regulations authorizing the construction and operation of certain pipeline, compression and appurtenant facilities in New Jersey and Pennsylvania. Details of this request are more fully set forth in the application which is on file with the Commission and open to public inspection. This filing is available for review at the Commission in the Public Reference Room or may be viewed on the Commission's Web site at http://www.ferc.gov using the “FERRIS” link. Enter the docket number excluding the last three digits in the docket number field to access the document. For Assistance, call (202)502-8222 or for TTY, (202)502-8659.

In Docket No. CP01-439-003, the Delaware Valley Energy Expansion Project (DVEEP), Columbia proposes to serve Mantua Creek Generating Company, L.P. (Mantua Creek), which is constructing an electric generating facility in Gloucester County, New Jersey.¹ Columbia proposes to construct and operate 7.5 miles of 20-inch pipeline looping in Gloucester County, New Jersey, and 2.1 miles of 20-inch lateral pipeline in Gloucester County (to be designated Line 10359), two 6,000 horsepower compressor units at the existing Eagle Compressor Station in Delaware County, Pennsylvania, and a new measuring and regulating station and associated appurtenances at the Mantua Creek Power Plant in Gloucester County.

¹ In Docket No. CP01-439-000, Columbia proposed to construct facilities for the same service for Mantua Creek and was authorized to do so, but has since made changes, because of changing needs and customer circumstances, as discussed in a public meeting at the Commission held September 4, 2002.

Columbia proposes to provide firm mainline transportation service to Mantua Creek under its Rate Schedule FTS for a contract term of 20 years and 2 months, commencing April 1, 2005, delivering 135,000 Dth per day (phased in with a contract demand of 55,000 Dth per day beginning April 1, 2005, increasing to 110,000 Dth per day on May 1, 2005, and 135,000 Dth per day on June 1, 2005) and transportation on the lateral line under Columbia's FTS-LAT rate schedule for a contract term of 20 years and 8 months, commencing October 1, 2004. Columbia notes that the FTS-LAT rate schedule was approved by the Commission in Docket No. CP01-260-000 and reaffirmed in Docket No. CP01-439-000.

Columbia estimates the total cost of facilities proposed herein at $32,359,700.

Columbia requests that an order be issued by January 31, 2003, so that work may commence in the early spring of 2003.

Any questions regarding this application should be directed to Fredric J. George, Senior Attorney, at (304) 357-2359, Columbia Gas Transmission Company, PO Box 1273, Charleston, West Virginia 25325-1273.

There are two ways to become involved in the Commission's review of this project. First, any person wishing to obtain legal status by becoming a party to the proceedings for this project should, on or before November 5, 2002, file with the Federal Energy Regulatory Commission, 888 First Street, NE., Washington, DC 20426, a motion to intervene in accordance with the requirements of the Commission's rules of practice and procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments and protests may be filed electronically via the internet in lieu of paper. See 18 CFR 385.2001(a)(1)(iii) and the instructions on the commission's Web site under the “e-Filing” link. The Commission strongly encourages electronic filings.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervenor status.

The Commission may issue a preliminary determination on non-environmental issues prior to the completion of its review of the environmental aspects of the project. This preliminary determination typically considers such issues as the need for the project and its economic effect on existing customers of the applicant, on other pipelines in the area, and ion landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

If the Commission decides to set the application for a formal hearing before an Administrative Law Judge, the Commission will issue another notice describing that process. At the end of the Commission's review process, a final Commission order approving or denying a certificate will be issued.

Magalie R. Salas,
Secretary.

[FR Doc. 02-26801 Filed 10-21-02; 8:45 am]

BILLING CODE 6717-01-P